DEPARTMENT OF VETERANS AFFAIRS

[OMB Control No. 2900-0162]

Agency Information Collection Activity Under OMB Review: Monthly Certification of Flight Training

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection revision should be sent within 30 days of publication of this notice to www.reginfo.gov/public/do/PRAMain. Find this particular information collection by selecting “Currently under 30-day Review—Open for Public Comments” or by using the search function. Refer to “OMB Control No. 2900-0162.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0162” in any correspondence.

SUPPLEMENTARY INFORMATION:

Authority: 38 U.S.C. 3032(e), 3231(e), 3313(g)(3)(C), and 3680(g); 38 CFR 21.4203(g), 21.7640(a)(5); 10 U.S.C. 16131, and 10 U.S.C. 16166.

Title: Monthly Certification of Flight Training, VA Form 22-6553c.

OMB Control Number: 2900-0162.

Type of Review: Revision of a currently approved collection.

Abstract: VA uses the information from the collection to ensure that the amount of benefits payable to the student who is pursuing flight training is correct. Without this information, VA would not have a basis upon which to make payment. Payment of educational assistance benefits for flight training cannot be made without the information (either a completed paper form or electronically. Since benefits are payable monthly, the collection of information must be on a monthly basis, provided the student has flown during the month.

An agency may not conduct or sponsor, and a person is not required to respond to a collection of information unless it displays a currently valid OMB control number. The Federal Register Notice with a 60-day comment period soliciting comments on this collection of information was published at 87 FR 12830 on June 15, 2022, page 36209.

Affected Public: Individuals or Households.

Estimated Annual Burden: 1,527 hours.

Estimated Average Burden Time per Respondent: 30 minutes.

Frequency of Response: On occasion.

Estimated Number of Respondents: 3,055.

By direction of the Secretary.
Maribel Aponte,
VA PRA Clearance Officer, Office of Enterprise and Integration, Data Governance Analytics, Department of Veterans Affairs.

[FR Doc. 2022-17876 Filed 8-18-22; 8:45 am]

BILLING CODE 8320-01-P